DEPARTMENT OF ENERGY

Bonneville Power Administration

FY 2007-2009 Fish and Wildlife Project Implementation Decision

AGENCY: Bonneville Power Administration (BPA), Department of Energy (DOE).

ACTION: Notice of availability of Record of Decision (ROD).

SUMMARY: This notice announces the availability of the ROD for BPA's 2007-2009 Fish and Wildlife Project Implementation Decision. BPA has decided to implement certain new and ongoing fish and wildlife mitigation projects for Fiscal Years 2007 through 2009 that help meet the agency's responsibilities to protect, mitigate and enhance fish and wildlife affected by the development and operation of the Columbia River basin hydroelectric dams from which BPA markets power. This decision is consistent with and tiered to BPA's Fish and Wildlife Implementation Plan Environmental Impact Statement (DOE/EIS-0312, April 2003) and the Fish and Wildlife Implementation Plan ROD (October 31, 2003).

ADDRESSES: Copies of this ROD may be obtained by calling BPA's toll-free document request line, 1-800-622-4520. This ROD and the Fish and Wildlife Implementation Plan EIS and ROD are also available on our Web site, www.efw.bpa.gov.

FOR FURTHER INFORMATION, CONTACT: Shannon Stewart, Bonneville Power Administration—KEC-4, P.O. Box 3621, Portland, Oregon 97208-3621; toll-free telephone number 1-800-282-3713; fax number 503-230-5699; or e-mail scstewart@bpa.gov.

Issued in Portland, Oregon, February 9, 2007.
Stephen J. Wright,
Administrator and Chief Executive Officer.

[FR Doc. E7-2998 Filed 2-21-07; 8:45 am]

BILLING CODE 6450-01-P